DEPARTMENT OF ENERGY

Federal Energy Regulatory Commission

[Docket No. OR18-27-000]

Enterprise Crude Pipeline LLC; Notice of Petition for Declaratory Order

Take notice that on June 27, 2018, pursuant to Rule 207(a)(2) of the Federal Energy Regulatory Commission's (Commission) Rules of Practice and Procedure, 18 CFR 385.207(a)(2) (2017), Enterprise Crude Pipeline LLC (ECPL), filed a petition for a declaratory order seeking approval of the specific rate structures, terms of service, and prorationing methodology for a newly constructed and expanded pipeline system that ECPL is developing to transport additional volumes of crude oil from multiple origin points in New Mexico to ECPL's crude oil terminal, pumping station, and tank farm facility in Midland, Texas, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on July 27, 2018.

Dated: June 28, 2018.
Kimberly D. Bose,
Secretary.

[FR Doc. 2018-14564 Filed 7-6-18; 8:45 am]

BILLING CODE 6717-01-P